ENVIRONMENTAL PROTECTION AGENCY

40 CFR Part 52

[EPA-R04-OAR-2016-0315; FRL-9952-72-Region 4]

Air Plan Approval; Georgia; Prong 4—2008 Ozone, 2010 NO2, SO2, and 2012 PM2.5

Correction

In rule document 2016-22887 beginning on page 65899 in the issue of Monday, September 26, 2016, make the following correction:

On page 65899, in the second column, under the DATES heading, in the first through third lines of that paragraph, ” [insert date 30 days after date of publication in the Federal Register].” should read “October 26, 2016”.

[FR Doc. C1-2016-22887 Filed 9-27-16; 8:45 am]

BILLING CODE 1301-00-D